COMMISSION ON CIVIL RIGHTS

Notice of Public Meeting of the Louisiana Advisory Committee to the U.S. Commission on Civil Rights

AGENCY: U.S. Commission on Civil Rights.

ACTION: Announcement of virtual meeting.

SUMMARY: Notice is hereby given, pursuant to the provisions of the rules and regulations of the U.S. Commission on Civil Rights (Commission) and the Federal Advisory Committee Act, that the Louisiana Advisory Committee (Committee) to the U.S. Commission on Civil Rights will hold a series of public meetings via Zoom on Monday, September 22, 2025 from 12:00 p.m.-1:00 p.m. and Monday, September 29, 2025 from 12:00 p.m.-2:00 p.m., Central Time. The purpose of the meeting on September 22, 2025 is for Committee members to plan for hearing testimony on September 29, 2025 regarding their topic on involuntary mental health commitments in Louisiana.

DATES:

• Monday, September 22, 2025, from 12:00 p.m.-1:00 p.m. Central Time.

• Monday, September 29, 2025, from 12:00 p.m.-2:00 p.m. Central Time.

ADDRESSES: The meeting will be held via Zoom.

September 22nd Business Meeting

---Registration Link: https://www.zoomgov.com/webinar/register/WN_xyMrLjGHSXCmkORg_mXhjQ

---Join by Phone (Audio Only) 1-833-435-1820 USA Toll Free: Meeting ID: 160 163 5767 September 29th Briefing

---Registration Link: https://www.zoomgov.com/webinar/register/WN_xrUQV2BrRLudpogUchG7yw

---Join by Phone (Audio Only) 1-833-435-1820 USA Toll Free: Meeting ID: 160 488 9280

FOR FURTHER INFORMATION CONTACT: Mallory Trachtenberg, Designated Federal Officer, at mtrachtenberg@usccr.gov or 1-202-809-9618.

SUPPLEMENTARY INFORMATION: This committee meeting is available to the public through the registration link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any incurred charges. Callers will incur no charge for calls they initiate over land-line connections to the toll-free telephone number. Closed captioning will be available. To request accommodations, please email Corrine Sanders, Support Specialist, at csanders@usccr.gov at least 10 business days prior to the meeting.

Members of the public are entitled to submit written comments; the comments must be received in the regional office within 30 days following the meeting. Written comments may be emailed to Mallory Trachtenberg, mtrachtenberg@usccr.gov. Persons who desire additional information may contact the Regional Programs Coordination Unit at (202) 809-9618.

Records of the meetings will be available via www.facadatabase.gov under the Commission on Civil Rights, Louisiana Advisory Committee link. Persons interested in the work of this Committee are directed to the Commission's website, http://www.usccr.gov, or may contact the Regional Programs Coordination Unit at mtrachtenberg@usccr.gov.

Agenda

I. Welcome

II. Committee Business

III. Public Comment

IV. Next Steps

V. Adjournment

Dated: August 12, 2025.
David Mussatt,
Supervisory Chief, Regional Programs Unit.

[FR Doc. 2025-15466 Filed 8-13-25; 8:45 am]

BILLING CODE P